DEPARTMENT OF HEALTH AND HUMAN SERVICES

Centers for Disease Control and Prevention

Board of Scientific Counselors, National Center for Public Health Informatics (BSC, NCPHI)

In accordance with section 10(a)(2) of the Federal Advisory Committee Act (Pub. L. 92-463), the Centers for Disease Control and Prevention (CDC) announces the following meeting of the aforementioned committee:

Time and Date: 1 p.m.-5 p.m., August 7, 2009 (Closed).

Place: Teleconference.

Status: The meeting will be closed to the public in accordance with provisions set forth in Section 552b(c)(4) and (6), Title 5 U.S.C., and the Determination of the Director, Management Analysis and Services Office, CDC, pursuant to Public Law 92-463.

Purpose: The committee shall advise the Secretary, HHS, and the Director, CDC, concerning strategies and goals for the programs and research within the national centers; shall conduct peer-review of scientific programs; and monitor the overall strategic direction and focus of the national centers. The board, after conducting its periodic reviews, shall submit a written description of the results of the review and its recommendations to the Director, CDC. The board shall perform second-level peer review of applications for grants-in-aid for research and research training activities, cooperative agreements, and research contract proposals relating to the broad areas within the national center.

Matters To Be Discussed: The board will perform a secondary review of previously rated grant applications received by NCPHI based on RFA-HK-09-001; Centers of Excellence in Public Health Informatics (P01) and reviewed by an expert panel convened by NCPHI on July 22—24, 2009.

Contact Person for More Information: Dr. Scott McNabb, National Center for Public Health Informatics, CDC, 1600 Clifton Road, NE., (E-78), Atlanta, Georgia 30333, Telephone (404) 498-6427, Fax (404) 498-6235.

The Director, Management Analysis and Services Office, has been delegated the authority to sign Federal Register notices pertaining to announcements of meetings and other committee management activities for both the CDC and the Agency for Toxic Substance and Disease Registry.

Dated: July 17, 2009.
Elaine L. Baker,
Management Analysis and Services Office, Centers for Disease Control and Prevention.

[FR Doc. E9-17524 Filed 7-22-09; 8:45 am]

BILLING CODE 4160-18-P